DEPARTMENT OF THE INTERIOR

Fish and Wildlife Service

50 CFR Part 17

RIN 1018-AI82

Endangered and Threatened Wildlife and Plants; Final Rule To List the Scimitar-Horned Oryx, Addax, and Dama Gazelle as Endangered

AGENCY: Fish and Wildlife Service, Interior.

ACTION: Final rule.

SUMMARY: We, the U.S. Fish and Wildlife Service (Service), determine endangered status for scimitar-horned oryx (Oryx dammah), addax (Addax nasomaculatus), and dama gazelle (Gazella dama) throughout their ranges, pursuant to the Endangered Species Act of 1973, as amended (Act). The best available information indicates that the causes of decline of these antelopes are (1) habitat loss through desertification, permanent human settlement, and competition with domestic livestock, and (2) regional military activity and uncontrolled killing. These threats have caused the possible extinction in the wild of the scimitar-horned oryx and the near-extinction of the addax in the wild. All three species are in danger of extinction throughout their ranges. Accordingly, we are listing these three antelopes as endangered.

DATES: This final rule is effective on October 3, 2005.

ADDRESSES: The complete file for this rule is available for inspection, by appointment, during normal business hours in the office of the Division of Scientific Authority, U.S. Fish and Wildlife Service, 4401 North Fairfax Drive, Room 750, Arlington, Virginia 22203.

Requests for copies of the regulations regarding listed wildlife and inquiries about prohibitions and permits may be addressed to: Division of Management Authority, U.S. Fish and Wildlife Service, 4401 North Fairfax Drive, Room 700, Arlington, Virginia 22203 (telephone, 703-358-2104; fax, 703-358-2281).

FOR FURTHER INFORMATION CONTACT: Robert R. Gabel, Chief, Division of Scientific Authority, at the above address; by telephone, 703-358-1708; by fax, 703-358-2276; or by e-mail, Scientificauthority@fws.gov.

SUPPLEMENTARY INFORMATION:

Background

The scimitar-horned oryx stands about 47 inches [in, 119 centimeters (cm)] tall and weighs around 450 pounds [lb, 204 kilograms (kg)]. It is generally pale in color, but the neck and chest are dark reddish brown. As the name suggests, adult animals possess a pair of horns curving back in an arc up to 50 in (127 cm) long. The scimitar-horned oryx once had an extensive range in North Africa throughout the semi-deserts and steppes north of the Sahara, from Morocco to Egypt.

The addax stands about 42 in (106 cm) tall at the shoulder and weighs around 220 lb (100 kg). It is grayish white and its horns twist in a spiral up to 43 in (109 cm) long. The addax once occurred throughout the deserts and sub-deserts of North Africa, from the Atlantic Ocean to the Nile River.

The dama gazelle stands about 39 in (99 cm) tall at the shoulder and weighs around 160 lb (72 kg). The upper part of its body is mostly reddish brown, whereas the head, rump, and underparts are white. Its horns curve back and up, but reach a length of only about 17 in (43 cm) long. The dama gazelle, the largest of the gazelles, was once common and widespread in arid and semi-arid regions of the Sahara.

Of the three antelope species, the scimitar-horned oryx has been the most susceptible to the threats it faced. In Egypt, the species became extinct over a century ago (M. Riad, Minister of State for Environmental Affairs, in litt., August 2003). By the mid-1900s, intensive killing had extirpated the scimitar-horned oryx from Morocco (Fact sheet submitted to the Service by M. Anechoum, Secretary General, Department of Waters and Forests in the Campaign Against Desertification, Morocco, pers. com., September 2003). By the mid-1980s, it was estimated that only a few hundred were left in the wild, with the only viable populations known to be in Chad. There have been no reported sightings of this species in the wild since the late 1980s. The World Conservation Union (IUCN) has declared the species extinct in the wild (IUCN 2003). In 1983, it was listed in Appendix I of the Convention on International Trade in Endangered Species of Wild Fauna and Flora (CITES). Captive-bred specimens are being introduced into large fenced areas in Morocco and Tunisia, and these animals may be released into the wild when adequately protected habitat is available (Antelope Taxon Advisory Group 2002b).

It is believed that the addax was extirpated from Tunisia during the 1930s, and the last animals were killed in Libya and Algeria in 1966 and 1970, respectively. The last observation of addax in Egypt was in the 1970s (Riad, in litt., August 2003), and in Morocco in 1963 (M. Anechoum, in litt., September 2003). Remnant populations may still exist in the remote desert areas of Chad, Mali, and Niger, and occasionally move north into Algeria and Libya during times of good rainfall. According to the Antelope Specialist Group's Global Survey of Antelopes, the addax is considered to be regionally extinct (Mallon and Kingwood 2001). The addax is listed as critically endangered by IUCN (IUCN 2003) and probably numbers fewer than 600 in the wild (Noble 2002). In 1983, the addax was listed in Appendix I of CITES. As with the scimitar-horned oryx, captive-bred specimens are being introduced into large fenced areas of protected habitat in Morocco and Tunisia (Antelope Taxon Advisory Group 2002a).

The dama gazelle is able to utilize both semi-desert and desert habitats. Although the dama gazelle is the least susceptible of the three antelopes to pressures from humans and domestic livestock, it has declined rapidly in the last 20 years, and only small numbers survive in most of the eight countries within its historical range. Noble (2002) estimated that the wild population of G. dama ruficollis is fewer than 200 specimens, G. dama dama is about 500 specimens, and G. dama mhorr may be extinct in the wild. It was previously extirpated from Senegal, but has since been reintroduced, and in 1997, at least 25 animals existed there as part of a semi-captive breeding program (IUCN 2003). The dama gazelle, including all subspecies, is listed as endangered by IUCN (2003). The Mhorr gazelle may only be found in captive collections or reintroduced populations in large fenced enclosures within range countries (Antelope Taxon Advisory Group 2002, IUCN 2003). In 1983, the Mhorr gazelle was listed in CITES Appendix I.

For additional population numbers indicating global and regional declines of the three antelope species, see our November 5, 1991, proposed rule (56 FR 56491).

Previous Federal Action

The Mhorr gazelle and Rio de Oro dama gazelle (G. d. lozanoi) were listed as endangered throughout their ranges on June 2, 1970 (35 FR 8495). On November 5, 1991, we published in the Federal Register (56 FR 56491) a proposed rule to list the scimitar-horned oryx, addax, and dama gazelle as endangered in The List of Threatened and Endangered Species [50 CFR 17.11(h)]. We re-opened the comment period on the Novermber 5, 1991, proposed rule to request information and comments from the public on July 24, 2003 (68 FR 43706), and November 26, 2003 (68 FR 66395). Stakeholders and interested parties, including the general public, governmental agencies, the scientific community, industry, and the range countries of the species were requested to submit comments or information.

Summary of Comments and Recommendations

We received a total of 56 comments, including multiple comments from the same stakeholders, during the three public comment periods on the proposed rule. Most of the comments (62.5%) were submitted by U.S. game ranchers. Zoos and zoo organizations submitted 8.9% of the comments. Other comments were received from governments of range countries (7.1%), hunting organizations (7.1%), exotic wildlife breeding organizations (5.4%), the general public (5.4%), and international scientific organizations (3.6%). In accordance with the Interagency Cooperative Policy for Peer Review in Endangered Species Act Activities published on July 1, 1994 (59 FR 34270), we selected three appropriate independent specialists to review the proposed rule. The purpose of such peer review is to ensure that listing decisions are based on scientifically sound data, assumptions, and analysis. The reviewers selected have considerable knowledge and field experience with scimitar-horned oryx, addax, and dama gazelle biology and conservation. We received comments from all of the peer reviewers.

We also sent letters requesting comments from the CITES Management and Scientific Authorities in the range countries, which include Algeria, Egypt, Libya, Morocco, Tunisia, and the United Arab Emirates. We received responses from Egypt and Morocco.

The two range country governments that responded both supported the proposed rule. The remaining commenters expressed opposition only to listing captive-bred specimens of these species as endangered. Specifically, peer reviewers and the zoo community supported listing of wild specimens only for all three species, noting that the captive herds are relatively robust. They advised that captive-breeding operations should not be impeded in their efforts to maintain globally managed captive herds. According to the information provided, the large captive herds of these species retain a substantial level of genetic diversity and are able to serve as sources of specimens for reintroduction, as needed. The exotic animal ranching community was uniformly against the proposed rule because listing the species would provide a disincentive to continue captive breeding of these three species on ranches. A major concern of ranchers was the need to go through potentially lengthy and cumbersome permit processes to continue their longstanding activities with these species, in accordance with the regulations at 50 CFR 17.21(g)(1).

It would not be appropriate to list captive and wild animals separately. Indeed, in the case of the scimitar-horned oryx, there are possibly no wild individuals. However, the Service may authorize otherwise prohibited activities that enhance the propagation or survival of the species, such as captive breeding to increase the population size or improve the gene pool, under section 10(a)(1)(A) of the Act. In response to these comments, on February 1, 2005 (70 FR 5117), we initiated a separate rulemaking by announcing a proposed rule and notice of availability of a draft environmental assessment to add a new subsection, 17.21(h), to govern certain activities with U.S. captive-bred scimitar-horned oryx, addax, and dama gazelle, should they become listed as endangered. The proposed rule covered U.S. captive-bred live specimens, embryos, gametes, and sport-hunted trophies and would authorize certain otherwise prohibited activities that enhance the propagation or survival of the species. The “otherwise prohibited activities” were take; export or re-import; delivery, receipt, carrying, transport or shipment in interstate or foreign commerce, in the course of a commercial activity; or sale or offering for sale in interstate or foreign commerce. In the proposed rule, we determined that the scimitar-horned oryx, addax, and dama gazelle are dependent on captive breeding and activities associated with captive breeding for their conservation, and that activities associated with captive breeding within the United States enhance the propagation or survival of these species. Comments were accepted until April 4, 2005. The final rule is published in today's Federal Register.

No comments were submitted that demonstrate that the three antelope species do not qualify as endangered under the Act.

Summary of Factors Affecting the Species

Section 4(a)(1) of the Act (16 U.S.C. 1531 et seq.) and regulations promulgated to implement the listing provisions of the Act (50 CFR part 424) set forth the procedures for determining whether any species is an endangered or threatened species. A species may be determined to be an endangered or threatened species on the basis of one or more of the five factors described in section 4(a)(1) of the Act. These factors and their application to the three antelopes are as follows:

A. Present or Threatened Destruction, Modification, or Curtailment of Its Habitat or Range

The ranges of all three species have been reduced as a result of habitat loss (Antelope Taxon Advisory Group 2002, IUCN 2003, Mallon and Kingwood 2001), which has occurred through overgrazing by domestic livestock. Severe droughts have reduced large areas of Sahelian and Saharan pasture, and traditional nomadism has declined in favor of permanent settlement and livestock rearing. The consequent establishment of vast herds of domestic livestock has led to competition for forage, overgrazing, erosion, and accelerated desertification. Habitat loss is also attributable to increased military activity, construction, and mining in the region, as well as the proliferation of all-terrain vehicles. See the November 5, 1991, proposed rule for additional details on the causes of and geographical regions of decline.

Habitat loss has been the main reason for the possible extinction of scimitar-horned oryx in the wild according to the World Conservation Union (IUCN 2003). Reduction in habitat is also the major threat to the addax. The decline of the addax has closely paralleled that of the oryx. However, because the addax is able to utilize waterless areas in the Sahara that are devoid of human settlement and livestock, it has been somewhat less affected than the oryx to habitat disturbance by humans and competition with domestic livestock (Antelope Taxon Advisory Group 2002a).

Being able to utilize both semi-desert and desert habitats the dama gazelle has proved somewhat less susceptible to habitat reduction and degradation than the other two species. However, the dama gazelle is not as drought-resistant as the other two species. Thus, intensive drought coupled with overgrazing from livestock can have an extreme impact on this species (Antelope Taxon Advisory Group 2002b). Noble (2002) estimates that the wild population of G. dama ruficollis is fewer than 200 specimens, that of G. dama dama is about 500 specimens, and G. dama mhorr is extinct in the wild. The IUCN (2003) has identified human-induced habitat loss and degradation as a major threat contributing to the IUCN classification of the dama gazelle as endangered.

Therefore, based on the best available information, we find that the scimitar-horned oryx, addax, and dama gazelle are in danger of extinction from the present or threatened destruction, modification, or curtailment of their habitats or ranges.

B. Overutilization for Commercial, Recreational, Scientific, or Educational Purposes

Uncontrolled killing has contributed to the decline of all three species (IUCN 2003, Mallon and Kingwood 2001). Traditional hunting methods—involving spears, bows, nets, and dogs—had little overall effect on antelope populations. Rather, military and government officials have inflicted the most devastating losses with access to off-road vehicles and high-caliber weaponry. By the mid-1900s, intensive killing had exterminated the scimitar-horned oryx in Morocco (M. Anechoum, in litt., September 2003). The addax population suffered its greatest reduction in numbers due to motorized uncontrolled killing following World War II (Antelope Taxon Advisory Group 2002a). It is believed that the addax was extirpated from Tunisia during the 1930s, and the last animals were killed in Libya and Algeria in 1966 and 1970, respectively. In 2001, an antelope survey team observed many signs of recent antelope killing in Chad including abandoned carcasses, vehicle tracks, spent cartridges, and eyewitness reports. The most frequent killing was carried out by people with access to all-terrain vehicles, such as the military, well-diggers, merchants, administrators, and others (Monfort et al. 2001).

Civil wars in Chad and Sudan in particular have contributed to the uncontrolled killing and harassment of the last large scimitar-horned oryx populations (Antelope Taxon Advisory Group 2002c). In the late 1970s, the scimitar-horned oryx was estimated to number about 6,000 individuals, at least 5,000 of which were in Chad and the rest of which were split into separate groups in other countries. By the mid-1980s, there were only a few hundred left in the wild, with the only known viable groups being in Chad. However, by 1989, only as many as 200 scimitar-horned oryx remained in Chad (Estes 1989). The same conflict that affected the scimitar-horned oryx continues to affect the dama gazelle population (Antelope Taxon Advisory Group 2002a).

According to Harper (1945), the range of the addax extended throughout the Saharan region in the 19th century. In the 1920s, the species was reported to occur in “immense herds” north of Lake Chad. By that period, however, the addax was becoming rare in some other areas because of excessive killing. Thornback (1978) indicated that the last permanent populations of addax disappeared from Tunisia as early as 1885, Egypt about 1970, northern Algeria in 1920-1922, Western Sahara in 1942, and Libya in 1949. In the 1970s, there were an estimated 2,500 individuals in Chad, and also substantial numbers in southern Algeria, Mauritania, Mali, Niger, and Sudan. Newby and Magin (1989) reported that the addax had disappeared almost throughout its original range. They also reported that a group of 50-200 individuals in northeastern Niger might represent the last viable wild population, but that a series of years with good rainfall in the late 1980s might have improved the situation. More recently, Estes (1989) noted that there also were an estimated 200 animals still in Chad, fewer than 50 in Mali, and possibly a few in remote parts of Algeria, Sudan, and Egypt.

An important new problem has been the arrival of non-resident hunters, mainly from other African countries and the Middle East. Traveling in large motorized caravans and equipped with automatic rifles, these parties have ignored local laws and killed wildlife, including dama gazelle and addax, of Algeria, Sudan, and Morocco, and more recently have concentrated their attention in Mali and Niger (Newby 1990). In Niger, killing of antelope is perpetrated by foreigners from the Arabian Gulf and military personnel. This may increase in the near future when an airport is built in the region inhabited by antelope (Wacher et al. 2003).

The dama gazelle declined by half between 1991 and 2001, in part due to illegal killing (Mallon and Kingwood 2001). See the November 5, 1991, proposed rule for additional details on the overutilization for commercial, recreational, scientific, or educational purposes.

Therefore, based on the best available information, we find that the scimitar-horned oryx, addax, and dama gazelle are in danger of extinction from overutilization for commercial, recreational, scientific, or educational purposes.

C. Disease or Predation

According to S. Monfort, Chair, Sahelo—Saharan Interest Group (SSIG), research veterinarian, National Zoological Park, Smithsonian Institution (in litt., October 2003), disease and predation do not represent a threat to the survival of these three antelopes. Based on the best available information, we find that the scimitar-horned oryx, addax, and dama gazelle are not in danger of extinction within the foreseeable future from disease or predation.

D. Inadequacy of Existing Regulatory Mechanisms

With the exceptions of Morocco, Senegal, and Tunisia, there is almost no effective wildlife protection across the Sahelo-Saharan region (S. Monfort, in litt., October 2003). Few areas are adequately protected due to limited resources or lack of vigilance. In general, protected areas have no infrastructure or support to ensure protection of these species.

The Sahelo-Saharan range states have agreed to cooperate under the United Nations Environment Programme's Convention on Migratory Species (CMS). In 1994, the CMS adopted a resolution that recommended the development and the implementation of an Action Plan for the conservation of six ungulate species including the scimitar-horned oryx, addax, and dama gazelle (UNEP/CMS 1999). Comprehensive status reports of the species throughout the migration range based on the most recent surveys and reports were compiled and an Action Plan was developed by experts from the Range States, neighboring countries, scientific institutions, and non-governmental organizations. The Action Plan for the conservation and restoration of the Sahelo-Saharan antelopes and their habitats comprises the three following main objectives: 1. To restore range and numbers (conserve or restore potential habitats in areas of former occurrence, consolidate or reinforce populations, reintroduce populations), 2. to reduce mortality (increase public awareness, census populations, conserve relict habitats, enact and enforce legislative measures, involve local communities), 3. to enhance international cooperation (improve exchange of information and technical expertise, raise funds for conservation programmes).

These objectives are included in the work of the Sahelo-Saharan Interest Group (SSIG) which formed in 2000. The SSIG has conducted range country antelope surveys (Monfort et al. 2001, Wacher et al. 2003) and held meetings that review current projects and propose further areas of research (Monfort 2003). While the work of the SSIG has improved communication among researchers and range state representatives interested in these species, it is not a regulatory body. There has been no progress in the development of transboundary protected areas (S. Monfort, in litt., October 2003).

The United States and range-country governments, as well as most countries worldwide, are required to strictly regulate trade in these species because the scimitar-horned oryx, addax, and dama gazelle are listed in Appendix I of CITES. Listing in CITES Appendix I requires strict regulation of international movement of these species, which may only be authorized in “exceptional circumstances.” CITES provides some protection, but these three species are not threatened by trade. Thus, CITES is inadequate to prevent or reduce the threat of extinction for these species.

Therefore, based on the best available information, we find that the scimitar-horned oryx, addax, and dama gazelle are in danger of extinction from inadequate existing regulatory mechanisms.

E. Other Natural or Manmade Factors

Captive breeding is a manmade factor that has stemmed the decline of the three species. It has provided the founder stock necessary for reintroduction, maintenance of otherwise potentially lost bloodlines, and opportunities for research. The scimitar-horned oryx is possibly extinct in the wild and therefore, but for captive breeding, the species might be extinct. For addax and dama gazelle, they occur in very low numbers in the wild, and a significant percentage of remaining specimens survive only in captivity (71% and 48%, respectively). The SSIG estimates that there are about 4,000-5,000 scimitar-horned oryx, 1,500 addax, and 750 dama gazelle in captivity worldwide. Captive-breeding programs operated by zoos and private ranches have effectively increased the numbers of these animals while genetically managing their herds. As future opportunities arise for reintroduction in the antelope range countries, captive-breeding programs will be able to provide genetically diverse and otherwise suitable specimens. Currently, however, continued habitat loss and wonton killing have made reintroduction nonviable in most cases. See 70 FR 5117 for a detailed discussion of the role of captive breeding in the conservation of these species.

Fenced reintroductions of scimitar-horned oryx are ongoing in Morocco, Tunisia, and Senegal (Monfort in litt. 2003, Monfort 2003). Five dama gazelle have been introduced to a large enclosure in Senegal (Ba and Clark 2003). These specimens are fenced in large tracts of suitable or recovering habitat and held for breeding and eventual reintroduction. The founder stock was largely derived from captive-breeding facilities. However, threats to survival of the antelopes still occur outside of the fenced areas so reintroduction into the wild has rarely occurred.

Because the remaining wild antelopes live in a harsh environment and are subject to severe natural pressures, they are especially vulnerable when adverse human impacts compound the situation. Human development projects that include drilling water wells influence land-use patterns and increase the human and domestic livestock conflict with wildlife. For arid antelope species, this can result in increased direct (e.g., killing) or indirect (e.g., grazing competition) conflicts (S. Monfort, in litt., October 2003). In terms of natural pressures, Newby (1988) observed: “The effect of drought and desertification on aridland wildlife in general, and on the Oryx and Addax in particular, has been catastrophic: fewer and smaller winter pastures, rarefaction of dry-season grazing, loss of shade and depletion of vital sources of organic water. By the hot season, Oryx and Addax are severely weakened, some die of hunger, others of thirst. Reproduction is disrupted or curtailed entirely; calves are aborted or abandoned at birth. In the search for grazing, the wildlife is driven south prematurely and onto land occupied by herders or farmers on the northern edge of the agricultural zone.” Therefore, based on the best available information, we find that the scimitar-horned oryx, addax, and dama gazelle are in danger of extinction from natural factors such as drought and manmade factors that result in habitat loss and uncontrolled killing.

Conclusion

In developing this rule, we have carefully assessed the best scientific and commercial information available regarding the past, present, and future threats facing these species. This information indicates that the wild populations of the three antelopes have declined drastically over the past 50 years. The scimitar-horned oryx may now be extinct in the wild. The declines have resulted primarily from habitat loss, uncontrolled killing, and the inadequacy of existing regulatory mechanisms. Because these threats place the species in danger of extinction throughout all or a significant portion of their ranges (in accordance with the definition of “endangered species” in section 3(6) of the Act), we find that the scimitar-horned oryx, addax, and dama gazelle are endangered throughout their ranges, pursuant to the Act. This action will result in the classification of these species as endangered, wherever they occur.

Available Conservation Measures

Conservation measures provided to species listed as endangered or threatened under the Act include recognition of conservation status, requirements for Federal protection, and prohibitions against certain practices. Recognition through listing encourages and results in conservation actions by Federal, State, and private agencies and groups, and individuals. The protection required of Federal agencies and the prohibitions against take and harm are discussed, in part, below.

Section 7(a) of the Act, as amended, and as implemented by regulations at 50 CFR part 402, requires Federal agencies to evaluate their actions that are to be conducted within the United States or upon the high seas, with respect to any species that is proposed to be listed or is listed as endangered or threatened and with respect to its proposed or designated critical habitat, if any is being designated. Because the scimitar-horned oryx, addax, and dama gazelle are not native to the United States, no critical habitat is being proposed for designation with this rule. Regulations implementing the interagency cooperation provision of the Act are codified at 50 CFR part 402. Section 7(a)(2) of the Act requires Federal agencies to ensure that activities they authorize, fund, or carry out are not likely to jeopardize the continued existence of a listed species or to destroy or adversely modify its critical habitat. If a proposed Federal action may affect a listed species, the responsible Federal agency must enter into formal consultation with the Service. Currently, with respect to these three antelopes, no Federal activities are known that would require consultation.

Section 8(a) of the Act authorizes the provision of limited financial assistance for the development and management of programs that the Secretary of the Interior determines to be necessary or useful for the conservation of endangered or threatened species in foreign countries. Sections 8(b) and 8(c) of the Act authorize the Secretary to encourage conservation programs for foreign listed species, and to provide assistance for such programs, in the form of personnel and the training of personnel.

The Act and its implementing regulations set forth a series of general prohibitions and exceptions that apply to all endangered wildlife. As such, these prohibitions are applicable to the scimitar-horned oryx, addax, and dama gazelle. These prohibitions, in part, make it illegal for any person subject to the jurisdiction of the United States to “take” (includes harass, harm, pursue, hunt, shoot, wound, kill, trap, capture, or to attempt any of these) within the United States or upon the high seas; import or export; deliver, receive, carry, transport, or ship in interstate commerce in the course of commercial activity; or sell or offer for sale in interstate or foreign commerce any endangered wildlife species. It also is illegal to possess, sell, deliver, carry, transport, or ship any such wildlife that has been taken in violation of the Act. Certain exceptions apply to agents of the Service and State conservation agencies.

Permits may be issued to carry out otherwise prohibited activities involving endangered wildlife species under certain circumstances. Regulations governing permits are codified at 50 CFR 17.22. With regard to endangered wildlife, a permit may be issued for the following purposes: for scientific purposes, to enhance the propagation or survival of the species, and for incidental take in connection with otherwise lawful activities.

Paperwork Reduction Act

An agency may not conduct or sponsor and a person is not required to respond to a collection of information unless it displays a currently valid Office of Management and Budget (OMB) control number. This rule does not contain any new collections of information that require OMB approval. However, OMB has approved the collection of information associated with endangered species permits and assigned control number 1018-0093, which expires June 30, 2007. For additional information concerning permit requirements for endangered species, see 50 CFR 17.22.

National Environmental Policy Act

We have determined that Environmental Assessments and Environmental Impact Statements, as defined under the authority of the National Environmental Policy Act of 1969 (42 U.S.C. 4321-4347), need not be prepared in connection with regulations adopted pursuant to section 4(a) of the Act. A notice outlining our reasons for this determination was published in the Federal Register on October 25, 1983 (48 FR 49244).

References Cited

Antelope Taxon Advisory Group. 2002a. Addax Fact Sheet. American Zoo and Aquarium Association. http://www.csew.com/antelopetag.

Antelope Taxon Advisory Group. 2002b. Addra or Dama Gazelle Fact Sheet. American Zoo and Aquarium Association. http://www.csew.com/antelopetag.

Antelope Taxon Advisory Group. 2002c. Scimitar-Horned Oryx Fact Sheet. American Zoo and Aquarium Association. http://www.csew.com/antelopetag.

Ba, D.M. and B. Clark. 2003. Update on antelope conservation programs in Senegal. Fourth Annual Sahelo-Saharan Interest Group Meeting. Agadir, Morocco, pp. 9-10.

Estes, R.D. 1989. The CBSG Aridland Anelopes Workshop. Gnusletter 8(3):9-12.

Harper, F. 1945. Extinct and vanishing mammals of the Old World. Special Publication American Commission on International Wildlife Protection. No. 12.

IUCN (World Conservation Union). 2003. 2003 IUCN Red List of Threatened Species. http://www.iucn.org.

Mallon, D.P., and S.C. Kingswood (Compilers). 2001. Antelopes. Part 4: North Africa, the Middle East, and Asia. Global Survey and Regional Action Plans. SSC Antelope Specialist Group. IUCN: Gland, Switzerland.

Monfort, S.L.. 2003. Comments submitted to U.S. Fish and Wildlife Service on proposed listing rule, Oct. 20, 2003.

Monfort, S.L. (ed.) 2003. Fourth Annual Sahelo-Saharan Interest Group Meeting, Agadir, Morocco, 67 p.

Monfort, S.L., J. Newby , T.J. Wacher, J. Tubiana, and D. Moksia. 2001. Sahelo-Saharan Antelope Survey, Republic of Chad. Final Report. Sahelo-Saharan Interest Group/UNEP-CMS.

Newby, J.E. 1988. Aridland wildlife in decline: The case of the scimitar-horned oryx. In A. Dixon and D. Jones (eds.), Conservation and Biology of Desert Antelopes. Christopher Helm: London, pp. 146-166.

Newby, J.E. 1990. The slaughter of Sahelian wildlife by Arab royalty. Oryx 24:6-8.

Newby, J.E., and C. Magin. 1989. Addax in Niger: distribution, status and conservation options. IUCN. Captive Breeding Specialist Group Meeting, San Antonio.

Noble, D. 2002. Overview and status of captive antelope populations. Third Annual Sahelo-Saharan Interest Group Meeting, May 20-22, 2002, Zámocká, Slovakia, p. 41.

Thornback, J. 1978. Red Data Book. Volume 1: Mammals. IUCN: Gland. Switzerland.

UNEP/CMS 1999. CMS Technical Series Publication No. 4: Conservation Measures for Sahelo-Saharan Antelopes. Action Plan and Status Report. UNEP/CMS Secretariat, Bonn, Germany

Wacher, T., J. Newby, S. Monfort, A. Dixon, and B. Houston. 2003. Sahelo-Saharan Wildlife Surveys. Part two: Central and South-Eastern Niger (February-March 2002). Sahelo-Saharan Interest Group/UNEP-CMS.

Author

The primary author of this notice is Michael Kreger, Ph.D., Division of Scientific Authority, U.S. Fish and Wildlife Service (see ADDRESSES section; telephone, 703-358-1708).

List of Subjects in 50 CFR Part 17

Endangered and threatened species, Exports, Imports, Reporting and recordkeeping requirements, Transportation.

Regulation Promulgation

Accordingly, we amend part 17, subchapter B of chapter I, title 50 of the Code of Federal Regulations, as follows:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. Amend § 17.11(h) as follows:

a. By removing the entries for “Gazelle, Mhorr” and “Gazelle, Rio de Oro Dama” under MAMMALS in the List of Endangered and Threatened Wildlife; and

b.By adding entries for “Addax,” “Gazelle, dama,” and “Oryx, scimitar-horned,” in alphabetical order under MAMMALS, to the List of Endangered and Threatened Wildlife as set forth below.

§ 17.11 Endangered and threatened wildlife.

* * * * *

(h) * * *

Species: Common name | Species: Scientific name | Historic range | Vertebrate population where endangered or threatened | Status | When listed | Critical habitat | Special rules
Mammals
Addax | Addax nasomaculatus | North Africa | Entire | E |  | NA | NA
* * * * * * *
Gazelle, dama | Gazella dama | North Africa | Entire | E | 3 | NA | NA
* * * * * * *
Oryx, scimitar-horned | Oryx dammah | North Africa | Entire | E |  | NA | NA
* * * * * * *

Dated: August 19, 2005.
Marshall P. Jones, Jr.,
Director, Fish and Wildlife Service.

[FR Doc. 05-17431 Filed 9-1-05; 8:45 am]

BILLING CODE 4310-55-P